DEPARTMENT OF ENERGY

Federal Energy Regulatory Commission

[Project No. 12107-003]

Granite County; Notice of Application Tendered for Filing With the Commission, and Soliciting Additional Study Requests

August 19, 2008,

Take notice that the following hydroelectric application has been filed with the Commission and is available for public inspection.

a. Type of Application: A New License. (Major Project).

b. Project No: 12107-003.

c. Date Filed: August 8, 2008.

d. Applicant: Granite County.

e. Name of Project: Flint Creek Hydroelectric Project.

f. Location: The proposed project would be located on Flint Creek at the Georgetown Lake Dam, near Philipsburg, in Granite County and Deer Lodge County, Montana. The proposed project would affect about 1266.33 acres of federal lands within the Beaverhead-Deer Lodge National Forest.

g. Filed Pursuant to: Federal Power Act 16 U.S.C. 791(a)-825(r).

h. Applicant Contact: Granite County, Maureen Connor, Chairman, Board of County Commissioners, P.O. Box 925, Philipsburg, Montana 59858-0925; (406) 859-3817, or Roger Kirk, Agent, P.O. Box 1136, Bozeman, Montana 59771; (406) 587-5086.

i. FERC Contact: Gaylord Hoisington, (202) 502-6032 or gaylord.hoisington@FERC.gov.

j. Cooperating agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 14, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The Flint Creek project consists of: (1) An existing 2,850 acre reservoir with 31,034 acre-feet of storage at elevation 6,378 feet above mean sea level; (2) an existing 330-foot-long and 44-foot-high earth with masonry-core dam; (3) a new 36-inch-diameter by 6,282-foot-long polymer and/or steel pipeline; (4) a surge tank; (5) a new 36-inch-diameter by approximately 1,463-foot-long buried penstock connecting the surge tank to the new powerhouse; (6) a new approximately 30-foot by 40-foot powerhouse containing one Pelton turbine-generator unit rated at 2 megawatts; (7) a new approximately 95-foot-long buried tailrace; (8) a new approximately 10-foot by 10-foot fenced substation located next to the powerhouse; and (9) all appurtenant structures. The average annual generation of the project is approximately 10 gigawatthours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/docs-filing/esubscription.asp to be notified via e-mail of new filings and issuances related to this or other pending projects. For assistance, contact FERC Online Support.

p. Procedural schedule and final amendments: The application will be processed according to the following Hydro Licensing Schedule. Revisions to the schedule will be made as appropriate.

Issue Deficiency Letter | October 2008
Issue Acceptance letter | November 2008
Issue Scoping Document 1 for comments | January 2009
Request Additional Information | March 2009
Issue Scoping Document 2 | May 2009
Notice of application is ready for environmental analysis | June 2009
Notice of the availability of the environmental analysis | August 2009
Ready for Commission's decision on the application | September 2009

Final amendments to the application must be filed with the Commission no later than 30 days from the issuance date of the notice of ready for environmental analysis.

Kimberly D. Bose,
Secretary.

[FR Doc. E8-19683 Filed 8-25-08; 8:45 am]

BILLING CODE 6717-01-P